DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Spring 2020

AGENCY: Office of the Secretary, USDA.

ACTION: Semiannual regulatory agenda.

SUMMARY: This agenda provides summary descriptions of the significant and not significant regulatory and deregulatory actions being developed in agencies of the U.S. Department of Agriculture (USDA) in conformance with Executive Orders (E.O.) 12866 “Regulatory Planning and Review,” 13563, “Improving Regulation and Regulatory Review,” 13771 “Reducing Regulation and Controlling Regulatory Costs,” and 13777, “Enforcing the Regulatory Reform Agenda.” The agenda also describes regulations affecting small entities as required by section 602 of the Regulatory Flexibility Act, Public Law 96-354. This agenda also identifies regulatory actions that are being reviewed in compliance with section 610(c) of the Regulatory Flexibility Act. We invite public comment on those actions as well as any regulation consistent with E.O. 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: March 5, 2020.
Michael Poe,
Legislative and Regulatory Staff.

The Department of Agriculture authorizes Alvin Harrod of RISC to digitally sign for our agency as USDA is not equipped to technically do digitally signing at this time. USDA acknowledges that RISC will include USDAs Preamble and Unified Agenda Entries containing a RISC digital signature in the Unified Agenda related to documents that RISC publishes on our behalf.

Alvin Harrod (Digital Signature)
Program Analyst.

Agricultural Marketing Service—Proposed Rule Stage
Sequence No. | Title | Regulation Identifier No.
1 | NOP; Strengthening Organic Enforcement | 0581-AD09

Agricultural Marketing Service—Final Rule Stage
Sequence No. | Title | Regulation Identifier No.
2 | Undue and Unreasonable Preferences and Advantages Under the Packers and Stockyards Act | 0581-AD81

Agricultural Marketing Service—Long-Term Actions
Sequence No. | Title | Regulation Identifier No.
3 | Establishment of a Domestic Hemp Production Program | 0581-AD82

Animal and Plant Health Inspection Service—Proposed Rule Stage
Sequence No. | Title | Regulation Identifier No.
4 | National List of Reportable Animal Diseases | 0579-AE39

Animal and Plant Health Inspection Service—Final Rule Stage
Sequence No. | Title | Regulation Identifier No.
5 | Bovine Spongiform Encephalopathy and Scrapie; Importation of Small Ruminants and Their Germplasm, Products, and Byproducts | 0579-AD10
6 | Brucellosis and Bovine Tuberculosis; Update of Import Provisions | 0579-AD65
7 | Removal of Emerald Ash Borer Domestic Quarantine Regulations | 0579-AE42
8 | Importation, Interstate Movement, and Release Into the Environment of Certain Genetically Engineered Organisms | 0579-AE47

Animal and Plant Health Inspection Service—Long-Term Actions
Sequence No. | Title | Regulation Identifier No.
9 | Handling of Animals; Contingency Plans | 0579-AC69
10 | Importation of Fresh Citrus Fruit From the Republic of South Africa Into the Continental United States | 0579-AD95

Animal and Plant Health Inspection Service—Completed Actions
Sequence No. | Title | Regulation Identifier No.
11 | Importation of Wood Packaging Material From Canada | 0579-AD28
12 | Lacey Act Implementation Plan: De Minimis Exception | 0579-AD44

Forest Service—Long-Term Actions
Sequence No. | Title | Regulation Identifier No.
13 | Special Uses—Communications Uses Rent | 0596-AD43

DEPARTMENT OF AGRICULTURE (USDA)

Agricultural Marketing Service (AMS)

Proposed Rule Stage

1. NOP; Strengthening Organic Enforcement

E.O. 13771 Designation: Regulatory.

Legal Authority: 7 U.S.C. 6501

Abstract: The Strengthening Organic Enforcement (SOE) rulemaking will address 2018 Farm Bill mandates. In summary, SOE will propose the following requirements that align with the Farm Bill:

• Limiting the types of operations in the organic supply chain that are not required to obtain organic certification;

• Imported organic products must be accompanied by an electronic import certificate to validate organic status;

• Import certificates will be submitted to the U.S. Customs and Border Protection's Automated Commercial Environment (ACE);

• Certifying agents must notify USDA within 90 days of the opening of any new office that conducts certification activities; and,

• Entities acting on behalf of certifying agents may be suspended when there is noncompliant activity.

Timetable:

Action | Date | FR Cite
NPRM | 06/00/20 |
Final Rule | 10/00/20 |

Regulatory Flexibility Analysis Required: Yes.

Agency Contact: Jennifer Tucker, Deputy Administrator, USDA National Organic Program, Department of Agriculture, Agricultural Marketing Service, 1400 Independence Avenue SW, Washington, DC 20250, Phone: 202 260-8077.

RIN: 0581-AD09

DEPARTMENT OF AGRICULTURE (USDA)

Agricultural Marketing Service (AMS)

Final Rule Stage

2. Undue and Unreasonable Preferences and Advantages Under the Packers and Stockyards Act

E.O. 13771 Designation: Regulatory.

Legal Authority: Pub. L. 110-234

Abstract: This final rule amends the regulations issued under the Packers and Stockyards Act (P&S Act) by adding new regulations that specify the criteria the Secretary could consider in determining whether conduct or action by packers, swine contractors, or live poultry dealers constitutes an undue or unreasonable preference or advantage and a violation of the P&S Act.

Timetable:

Action | Date | FR Cite
NPRM | 01/13/20 | 85 FR 1771
NPRM Comment Period End | 03/13/20 |
Final Rule | 08/00/20 |

Regulatory Flexibility Analysis Required: Yes.

Agency Contact: Michael V. Durando, Associate Deputy Administrator, Fair Trade Practices Program, Department of Agriculture, Agricultural Marketing Service, 1400 Independence Avenue SW, Washington, DC 20250-0237, Phone: 202 720-0219.

RIN: 0581-AD81

DEPARTMENT OF AGRICULTURE (USDA)

Agricultural Marketing Service (AMS)

Long-Term Actions

3. Establishment of a Domestic Hemp Production Program

E.O. 13771 Designation: Deregulatory.

Legal Authority: 7 U.S.C. 1621

Abstract: This action will initiate a new part 990 establishing rules and regulations for the domestic production of hemp. This action is required to implement provisions of the Agriculture Improvement Act of 2018 (Farm Bill).

Timetable:

Action | Date | FR Cite
Interim Final Rule | 10/31/19 | 84 FR 58522
Interim Final Rule Effective-10/31/2019 thru 11/01/2021 | 10/31/19 |
Comment Period Extended | 12/18/19 | 84 FR 69295
Comment Period End | 01/29/20 |
Final Rule | 10/00/21 |

Regulatory Flexibility Analysis Required: Yes.

Agency Contact: Sonia Jimenez, Phone: 202 720-4722, Email: sonia.jimenez@usda.gov.

RIN: 0581-AD82

DEPARTMENT OF AGRICULTURE (USDA)

Animal and Plant Health Inspection Service (APHIS)

Proposed Rule Stage

4. National List of Reportable Animal Diseases

E.O. 13771 Designation: Other.

Legal Authority: 7 U.S.C. 8301 to 8317

Abstract: This rulemaking would amend the animal disease regulations to provide for a National List of Reportable Animal Diseases, along with animal disease reporting responsibilities, to streamline State and Federal cooperative animal disease eradication efforts. This action would enhance and consolidate current disease reporting mechanisms, and would complement and supplement existing animal disease tracking and reporting at the State level.

Timetable:

Action | Date | FR Cite
NPRM | 04/02/20 | 85 FR 18471
NPRM Comment Period End | 06/01/20 |

Regulatory Flexibility Analysis Required: Yes.

Agency Contact: Rebecca Jones, Science, Technology, and Analysis Services, Centers for Epidemiology and Animal Health, Department of Agriculture, Animal and Plant Health Inspection Service, 2150 Centre Ave., Bldg. B, Fort Collins, CO 80526, Phone: 970 494-7196.

RIN: 0579-AE39

DEPARTMENT OF AGRICULTURE (USDA)

Animal and Plant Health Inspection Service (APHIS)

Final Rule Stage

5. Bovine Spongiform Encephalopathy and Scrapie; Importation of Small Ruminants and Their Germplasm, Products, and Byproducts

E.O. 13771 Designation: Deregulatory.

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: We are amending the regulations governing the importation of animals and animal products to revise conditions for the importation of live sheep, goats, and certain other non-bovine ruminants, and products derived from sheep and goats, with regard to transmissible spongiform encephalopathies such as bovine spongiform encephalopathy (BSE) and scrapie. We are removing BSE-related import restrictions on sheep and goats and most of their products, and adding import restrictions related to transmissible spongiform encephalopathies for certain wild, zoological, or other non-bovine ruminant species. The conditions we are adopting for the importation of specified commodities are based on internationally accepted scientific literature and will, in general, align our regulations with guidelines established in the World Organization for Animal Health's Terrestrial Animal Health Code.

Timetable:

Action | Date | FR Cite
NPRM | 07/18/16 | 81 FR 46619
NPRM Comment Period End | 09/16/16 |
Final Rule | 09/00/20 |

Regulatory Flexibility Analysis Required: Yes.

Agency Contact: Alexandra MacKenzie, Veterinary Medical Officer, Animal Permitting and Negotiating Services, NIES, VS, Department of Agriculture, Animal and Plant Health Inspection Service, 4700 River Road, Unit 39, Riverdale, MD 20737, Phone: 301 851-3300.

RIN: 0579-AD10

6. Brucellosis and Bovine Tuberculosis; Update of Import Provisions

E.O. 13771 Designation: Other.

Legal Authority: 7 U.S.C. 1622; 7 U.S.C. 8301 to 8317; 15 U.S.C. 1828; 21 U.S.C. 136 and 136a; 31 U.S.C. 9701

Abstract: We are amending the regulations governing the importation of cattle and bison with respect to bovine tuberculosis and brucellosis. The changes will make these requirements clearer and assure that they more effectively mitigate the risk of introduction of these diseases into the United States.

Timetable:

Action | Date | FR Cite
NPRM | 12/16/15 | 80 FR 78461
NPRM Comment Period End | 03/15/16 |
NPRM Comment Period Extended | 03/11/16 | 81 FR 12832
NPRM Comment Period Extended End | 05/16/16 |
NPRM—Partial Withdrawal | 03/27/19 | 84 FR 11448
Final Rule | 07/00/20 |

Regulatory Flexibility Analysis Required: Yes.

Agency Contact: Kelly Rhodes, Senior Staff Veterinarian, Regionalization Evaluation Services, VS, Department of Agriculture, Animal and Plant Health Inspection Service, 4700 River Road, Unit 38, Riverdale, MD 20737-1236, Phone: 301 851-3300.

RIN: 0579-AD65

7. Removal of Emerald Ash Borer Domestic Quarantine Regulations

E.O. 13771 Designation: Deregulatory.

Legal Authority: 7 U.S.C. 7701 to 7772; 7 U.S.C. 7781 to 7786

Abstract: This rulemaking will remove the domestic quarantine regulations for the plant pest emerald ash borer. This action will discontinue the domestic regulatory component of the emerald ash borer program as a means to more effectively direct available resources toward management and containment of the pest. Funding previously allocated to the implementation and enforcement of these domestic quarantine regulations will instead be directed to a non-regulatory option of research into, and deployment of, biological control agents for emerald ash borer, which will serve as the primary tool to mitigate and control the pest.

Timetable:

Action | Date | FR Cite
NPRM | 09/19/18 | 83 FR 47310
NPRM Comment Period End | 11/19/18 |
Final Rule | 08/00/20 |

Regulatory Flexibility Analysis Required: Yes.

Agency Contact: Herbert Bolton, National Policy Manager, PPQ, Department of Agriculture, Animal and Plant Health Inspection Service, 4700 River Road, Unit 26, Riverdale, MD 20737-1231, Phone: 301 851-3594.

RIN: 0579-AE42

8. Importation, Interstate Movement, and Release Into the Environment of Certain Genetically Engineered Organisms

E.O. 13771 Designation: Deregulatory.

Legal Authority: 7 U.S.C. 7701 to 7772; 7 U.S.C. 7781 to 7786

Abstract: APHIS is revising its regulations regarding the importation, interstate movement, and environmental release of certain genetically engineered organisms in order to update the regulations in response to advances in genetic engineering and APHIS' understanding of the plant health risk posed by genetically engineered organisms, thereby reducing the burden for regulated entities whose organisms pose no plant health risks.

Timetable:

Action | Date | FR Cite
NPRM | 06/06/19 | 84 FR 26514
NPRM Comment Period End | 08/05/19 |
Final Rule | 05/18/20 | 85 FR 29790
Final Rule Effective | 08/17/20 |

Regulatory Flexibility Analysis Required: Yes.

Agency Contact: Alan Pearson, Assistant Deputy Administrator, Biotechnology Regulatory Services, Department of Agriculture, Animal and Plant Health Inspection Service, 4700 River Road, Unit 98, Riverdale, MD 20737-1238, Phone: 301 851-3944.

RIN: 0579-AE47

DEPARTMENT OF AGRICULTURE (USDA)

Animal and Plant Health Inspection Service (APHIS)

Long-Term Actions

9. Handling of Animals; Contingency Plans

E.O. 13771 Designation: Fully or Partially Exempt.

Legal Authority: 7 U.S.C. 2131 to 2159.

Abstract: This rulemaking would amend the Animal Welfare Act regulations to add requirements for contingency planning and training of personnel by research facilities and by dealers, exhibitors, intermediate handlers, and carriers. This action would heighten the awareness of licensees and registrants regarding their responsibilities and help ensure a timely and appropriate response should an emergency or disaster occur.

Timetable:

Action | Date | FR Cite
NPRM | 10/23/08 | 73 FR 63085
NPRM Comment Period End | 12/22/08 |
NPRM Comment Period Extended | 12/19/08 | 73 FR 77554
NPRM Comment Period Extended End | 02/20/09 |
Final Rule | 12/31/12 | 77 FR 76815
Final Rule Effective | 01/30/13 |
Final Rule—Stay of Regulations | 07/31/13 | 78 FR 46255
Final Rule Effective—Stay of Regulations | 07/31/13 |
NPRM | To Be Determined

Regulatory Flexibility Analysis Required: Yes.

Agency Contact: Jeanie Lin, Phone: 919 855-7097.

RIN: 0579-AC69

10. Importation of Fresh Citrus Fruit From the Republic of South Africa Into the Continental United States

E.O. 13771 Designation: Deregulatory.

Legal Authority: 7 U.S.C. 450; 7 U.S.C. 7701 to 7772; 7 U.S.C. 7781 to 7786; 21 U.S.C. 136 and 136a

Abstract: This rulemaking will amend the fruits and vegetables regulations to allow the importation of several varieties of fresh citrus fruit, as well as citrus hybrids, into the continental United States from areas in the Republic of South Africa where citrus black spot has been known to occur. As a condition of entry, the fruit will have to be produced in accordance with a systems approach that includes shipment traceability, packinghouse registration and procedures, and phytosanitary treatment. The fruit will also be required to be imported in commercial consignments and accompanied by a phytosanitary certificate issued by the national plant protection organization of the Republic of South Africa with an additional declaration confirming that the fruit has been produced in accordance with the systems approach. This action will allow for the importation of fresh citrus fruit, including citrus hybrids, from the Republic of South Africa while continuing to provide protection against the introduction of plant pests into the United States.

Timetable:

Action | Date | FR Cite
NPRM | 08/28/14 | 79 FR 51273
NPRM Comment Period End | 10/27/14 |
Next Action Undetermined

Regulatory Flexibility Analysis Required: Yes.

Agency Contact: Tony Román, Phone: 301 851-2242.

RIN: 0579-AD95

DEPARTMENT OF AGRICULTURE (USDA)

Animal and Plant Health Inspection Service (APHIS)

Completed Actions

11. Importation of Wood Packaging Material From Canada

E.O. 13771 Designation: Regulatory.

Legal Authority: 7 U.S.C. 450; 7 U.S.C. 7701 to 7772; 7 U.S.C. 7781 to 7786; 21 U.S.C. 136 and 136a

Abstract: This rulemaking would have amended the regulations for the importation of unmanufactured wood articles with regard to the exemption that allows wood packaging material from Canada to enter the United States without first meeting the treatment and marking requirements of the regulations that apply to wood packaging material from all other countries. We are withdrawing the action because of the age of the supporting materials that informed the proposed rule.

Completed:

Reason | Date | FR Cite
Withdrawn | 05/01/20 |

Regulatory Flexibility Analysis Required: Yes.

Agency Contact: John Tyrone Jones, Phone: 301 851-2344

RIN: 0579-AD28

12. Lacey Act Implementation Plan: De Minimis Exception

E.O. 13771 Designation: Deregulatory.

Legal Authority: 16 U.S.C. 3371 et seq.

Abstract: The Food, Conservation, and Energy Act of 2008 amended the Lacey Act to provide, among other things, that importers submit a declaration at the time of importation for certain plants and plant products. The declaration requirement of the Lacey Act became effective on December 15, 2008, and enforcement of that requirement is being phased in. We are amending the regulations to establish an exception to the declaration requirement for products containing a minimal amount of plant materials. This action would relieve the burden on importers while continuing to ensure that the declaration requirement fulfills the purposes of the Lacey Act.

Completed:

Reason | Date | FR Cite
Final Rule | 03/02/20 | 85 FR 12207
Final Action Effective | 04/01/20 |

Regulatory Flexibility Analysis Required: Yes.

Agency Contact: Dorothy Wayson, Phone: 301 851-2036.

RIN: 0579-AD44

DEPARTMENT OF AGRICULTURE (USDA)

Forest Service (FS)

Long-Term Actions

13. Special Uses—Communications Uses Rent

E.O. 13771 Designation: Regulatory.

Legal Authority: 43 U.S.C. 1761 to 1771

Abstract: Consistent with the requirement in title V, section 504 (g) of the Federal Land Policy and Management Act, the proposed rule would update the Forest Service's rental fee schedule for communications uses based on market value. Updated rental fees that exceed 100 percent of current rental fees would be phased in over a 3-year period.

Timetable:

Action | Date | FR Cite
NPRM | To Be Determined

Regulatory Flexibility Analysis Required: Yes.

Agency Contact: Edwina Howard-Agu, Phone: 202 205-1419, Email: ehowardagu@fs.fed.us.

RIN: 0596-AD43

[FR Doc. 2020-17333 Filed 8-25-20; 8:45 am]

BILLING CODE 6820-14-P